DEPARTMENT OF STATE

[Public Notice: 9162]

Rescission of Determination Regarding Cuba

In accordance with section 6(j) of the Export Administration Act of 1979 (50 U.S.C. App. 2405(j)), and as continued in effect by Executive Order 13222 of August 17, 2001, I hereby rescind the Determination of March 1, 1982, regarding Cuba, effective May 29, 2015. This action is based upon the considerations contained in the memorandum accompanying the Presidential Report of April 14, 2015, regarding Cuba.

This rescission shall also satisfy the provisions of section 620A(c) of the Foreign Assistance Act of 1961, Public Law 87-195, as amended (22 U.S.C. 2371(c)), and section 40(f) of the Arms Export Control Act, Public Law 90-629, as amended (22 U.S.C. 2780(f)).

This notice shall be published in the Federal Register.

Dated: May 28, 2015.
John F. Kerry,
Secretary of State.

[FR Doc. 2015-13663 Filed 6-3-15; 8:45 am]

BILLING CODE 4710-10-P